DEPARTMENT OF ENERGY

Nuclear Regulatory Commission

[Docket No. 50-328]

Tennessee Valley Authority; Notice of Withdrawal of Application for Amendments to Facility Operating Licenses

The U.S. Nuclear Regulatory Commission (the Commission) has granted the request of Tennessee Valley Authority (TVA) to withdraw its June 7, 1999, application for proposed amendments to Facility Operating Licenses No. DPR-79 for the Sequoyah Nuclear Plant (SQN), Unit 2, located in Hamilton County, Tennessee. Notice of Consideration of Issuance of of this amendment was published in the Federal Register on July 28, 1999, (64 FR 40907).

The purpose of the licensee's amendment request was to revise the Technical Specifications (TS) to increase the maximum allowed specific activity of the primary (reactor) coolant from 0.35 microcuries/gram dose equivalent Iodine-131 (I-131) to 1.0 microcuries/gram dose equivalent I-131 for the Unit 2 Cycle 10 core. The change for Unit 2 back to 1.0 microcuries/gram (the previous TS limit) was to have been a provisional allowance to provide operational flexibility with respect to the reactor coolant specific activity because an unexpected increase in the specific activity associated with I-131 occurred during startup following the previous refueling outage due presumably to minor fuel clad leakage.

By letter dated October 17, 2000, TVA withdrew the proposed change on the basis that reactor coolant dose equivalent I-131 activity had not closely approached the current TS limit and was not expected to before the refueling outage that commenced on October 22, 2000.

For further details with respect to this action, see the application for amendments dated August 30, 1999, and TVA's letter dated October 17, 2000, which withdrew the application for the license amendment.

These Documents may be examined, and/or copied for a fee, at the Commission's Public Document room, located at One White Flint North, 11555 Rockville Pike (first floor), Rockville, Maryland, and accessible electronically through the ADAMS Public Electronic Reading Room link at the NRC Web site (http://www.nrc.gov).

Dated at Rockville, Maryland, this 26th day of October 2000.
For the Nuclear Regulatory Commission.
Ronald W. Hernan,
Senior Project Manager, Section 2, Project Directorate II, Division of Licensing Project Management, Office of Nuclear Reactor Regulation.

[FR Doc. 00-28122 Filed 11-1-00; 8:45 am]

BILLING CODE 7590-1-P